DEPARTMENT OF AGRICULTURE

Natural Resources Conservation Service

Finding of No Significant Impact for Buck and Duck Creeks Watershed, Nemaha County, NE

Introduction

The Buck and Duck Creeks Watershed is a federally assisted action authorized for planning under Pub. L. 83-566, the Watershed Protection and Flood Prevention Act. An environmental assessment was undertaken in conjunction with the development of the watershed plan. This assessment was conducted in consultation with local, State, and Federal agencies as well as with interested organizations and individuals. Data developed during the assessment are available for public review at the following location: U.S. Department of Agriculture, Natural Resources Conservation Service, Federal Building, Room 152, 100 Centennial Mall North, Lincoln, Nebraska 68508-3866.

Recommended Action

Proposed is the development of one floodwater retarding dam on Buck Creek with a permanent pool surface area of 45 acres, and one multi-purpose floodwater retarding and recreation dam on Duck Creek with a permanent pool surface area of 49 acres. The Buck and Duck Creeks Watershed contains 17,880 acres of which 4595 acres are upstream of the Buck Creek dam and 4096 acres are upstream of the Duck Creek dam.

Effect of Recommended Action

More efficient drainage will occur on 6000 acres of floodplain cropland, which will reduce standing crop and stored crop damages. An additional 188 acres of floodplain land, within the project area, will have floodwater totally eliminated.

Water quality will be enhanced by decreased concentrations of phosphorus and sediment bound pesticides downstream of the dams.

Sediment delivery to the Missouri floodplain, from this watershed, will be significantly reduced by the two structures, which will control most of the upland drainage area in the watershed. In total, sediment delivery to the Missouri floodplain, from the watershed, will be reduced by 76 percent or 20,700 tons annually. This project will eliminate need for any future construction of sediment basins by the Peru Drainage District.

Fish habitat will be improved by the addition of the pools behind the dams. Deliberate in lake measures, as recommended by the Nebraska Game and Parks Commission, will be installed in the Duck Creek reservoir to enhance fisheries.

Water based recreation will be planned at the Duck Creek dam. This will provide an estimated 9692 annual public recreational visits.

Based on cultural resource identification and evaluation efforts there are no significant historic properties in the project area of potential effect. Consultation has been completed with the Nebraska State Historic Preservation Officer and the nine Indian tribal governments who have indicated historic interests in the general area.

If cultural resources are discovered during construction, appropriate notice will be made by NRCS to the State Historic Preservation Officer, the National Park Service, and the Advisory Council on Historic Preservation. NRCS will take action as prescribed in NRCS GM 420, Part 401, to protect or recover any significant cultural resources discovered during construction.

No threatened or endangered species in the watershed will be affected by the project.

No significant adverse environmental impacts will result from installations except for minor inconveniences to local residents during construction.

Alternatives

Three alternatives were analyzed in the plan.

Alternative 1: Without Project. The problem of flooding and sedimentation requiring the Peru Drainage District to find another location for a sediment catchment basin would persist. The regional shortage of recreation would continue. The value of the Without Project Alternative damages is estimated to be $50,806 annually.

Alternative 2: National Economic Development (NED) Plan. This alternative, the selected alternative, consists of a floodwater retarding dam on Buck Creek. This dam has 345 acre feet of sediment storage and 1137 acre feet of floodwater storage. A multi-purpose floodwater retarding and recreation dam will be located on Duck Creek. This dam will have 379 acre feet of sediment storage, 321 acre feet of recreation storage, and 1123 acre feet of floodwater storage.

Alternative 3: This alternative consists of two floodwater retarding dams, one on Buck Creek and one on Duck Creek. The floodwater retarding dam on Buck Creek would have 345 acre feet of sediment storage and 1137 acre feet of floodwater storage. The floodwater retarding dam on Duck Creek would have 379 acre feet of sediment storage and 981 acre feet of floodwater storage.

Consultation-Public Participation

An application for assistance was submitted by the Nemaha Natural Resources District on November 19, 1999. The request was a result of local concern and interest in addressing flood protection, sedimentation, fish and wildlife, and recreation.

A scoping meeting was held June 27, 2001 to assemble an interdisciplinary team. The purpose of the interdisciplinary was to review all interest and or concerns of the project area. Nebraska Game and Parks Commission, Nebraska Department of Natural Resources, Resource Conservation and Development, Nemaha Natural Resources District, University of Nebraska, Cooperative Extension, local residents and the Natural Resources Conservation Service were in attendance.

Consultation was completed with the Nebraska State Historic Preservation Officer and with the nine Indian tribal governments who have identified historical interests in the watershed area.

The environmental assessment was transmitted to all participating and interested agencies, groups, and individuals for review and comment in January 2002. Public meetings were held throughout the planning process to keep all interested parties informed of the study progress and to obtain public input to the plan and environmental evaluation.

Agency consultation and public participation to date have shown no unresolved conflicts with the implementation of the selected plan.

Conclusion

The Environmental Assessment summarized above indicates that this Federal action will not cause significant local, regional, or national impacts on the environment. Therefore, based on the above findings, I have determined that an environmental impact statement for the Buck and Duck Creeks Watershed Plan is not required.

Dated: August 25, 2003.
Stephen K. Chick,
State Conservationist.

[FR Doc. 03-22419 Filed 9-2-03; 8:45 am]

BILLING CODE 3410-16-P